EXECUTIVE OFFICE OF THE PRESIDENT

Office of National Drug Control Policy

Designation of Forty (40) Counties as Part of the High Intensity Drug Trafficking Area

AGENCY: Office of National Drug Control Policy, Executive Office of the President.

ACTION: Notice.

SUMMARY: This notice lists forty (40) counties as additions to various High Intensity Drug Trafficking Area (HIDTA) programs. These new counties are: Mohave in the Arizona HIDTA; the Colorado counties of Boulder, Larimer, Weld, Pueblo, Grand, Routt and Moffatt, the Utah county of Davis and the Wyoming counties of Campbell and Unita in the Rocky Mountain HIDTA; the Iowa counties of Appanoose, Black, Hawk, and Marshall, the Kansas counties of Barton, Finney, Franklin, Miami, Sedgewick and Shawnee, the Missouri counties of Benton, Buchanan, Greene, Jasper, Marion, Platte and Texas, the Nebraska counties of Dodge, Gage, Jefferson, Madison and Platte as well as the South Dakota counties of Beadle, Brookings and Brown in the Midwest HIDTA; the Texas counties of Smith in the North Texas HIDTA and the Texas counties of Hardin, Jefferson, Liberty and Orange in the Houston HIDTA. HIDTAs are domestic regions identified as having the most critical drug trafficking problems that adversely affect the United States. These new counties are designated in an effort to promote more effective coordination of drug control efforts. This action will support local, state and federal law enforcement officers in assessing regional drug threats, designing strategies to combat the threats, developing initiatives to implement the strategies, and evaluating the effectiveness of their coordinated efforts.

FOR FURTHER INFORMATION CONTACT: Comments and questions regarding this notice should be directed to Mr. Kurt Schmid, National HIDTA Director, Office of National Drug Control Policy (ONDCP), Executive Office of the President, Washington, DC 20503; 202-395-6692.

SUPPLEMENTARY INFORMATION: In 1990, the Director of ONDCP designated the first five HIDTAs. These original HIDTAs, areas through which most illegal drugs enter the United States, are the Southwest Border, Houston, Los Angeles, New York/New Jersey, and South Florida. In 1994, the Director designated the Washington/Baltimore HIDTA to address the extensive drug distribution networks serving hardcore drug users and the Puerto Rico/U.S. Virgin Islands HIDTA based upon the significant amount of drugs entering the United States through this region. In 1995, HIDTAs were designated in Atlanta, Chicago, and Philadelphia/Camden to target drug abuse and drug trafficking in those areas. In 1997, the Gulf Coast HIDTA (includes parts of Alabama, Louisiana, and Mississippi), the Lake County HIDTA, the Midwest HIDTA (includes parts of Iowa, Kansas, Missouri, Nebraska, and South Dakota, with the focus on methamphetamine), the Northwest HIDTA (includes seven counties of Washington State), the Rocky Mountain HIDTA (includes parts of Colorado, Utah, and Wyoming), and the San Francisco HIDTA were designated. In 1998, new HIDTAs were designated in Appalachia (includes parts of Kentucky, Tennessee, and West Virginia), Central Florida, Milwaukee, North Texas, and Southeast Michigan. In 1999, new HIDTAs were designated in Central Valley California, Hawaii, New England, Ohio and Oregon.

The HIDTA Program supports over 462 collocated joint task forces in twenty-seven regions of the country, including the entire Southwest Border. The HIDTA Program strengthens local, state, and federal drug trafficking and money laundering task forces, bolsters drug enforcement information networks and, improves integration of law enforcement, drug treatment, and drug abuse prevention programs, where appropriate.

Signed at Washington, DC, this 13th day of April, 2000.
Barry R. McCaffrey,
Director.

[FR Doc. 00-11412 Filed 5-5-00; 8:45 am]

BILLING CODE 3180-02-P